DEPARTMENT OF HOMELAND SECURITY

Coast Guard

33 CFR Part 117

[Docket No. USCG-2013-0292]

Drawbridge Operation Regulation; Lake Washington Ship Canal, Seattle, WA

AGENCY: Coast Guard, DHS.

ACTION: Notice of deviation from drawbridge regulation.

SUMMARY: The Coast Guard has issued a temporary deviation from the operating schedule that governs the Montlake Bridge across the Lake Washington Ship Canal, mile 5.2, at Seattle, WA, and the University Bridge across the Lake Washington Ship Canal, mile 4.3, at Seattle, WA. This deviation is necessary to accommodate the “Beat the Bridge” foot race. This deviation allows the bridges to remain in the closed position to allow safe movement of event participants.

DATES: This deviation is effective from 7:30 a.m. on May 19, 2013 to 9:30 a.m. on May 19, 2013.

ADDRESSES: The docket for this deviation, [USCG-2013-0292] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Randall Overton, Bridge Administrator, Coast Guard Thirteenth District; telephone 206-220-7282, email Randall.D.Overton@uscg.mil. If you have questions on viewing the docket, call Barbara Hairston, Program Manager, Docket Operations, telephone 202-366-9826.

SUPPLEMENTARY INFORMATION: The Washington State Department of Transportation and Seattle Department of Transportation have requested that the Montlake Bridge and the University Bridges remain closed to vessel traffic to facilitate safe passage of participants in the “Beat the Bridge” foot race. The race course passes over the University and Montlake Bridges. The University Bridge crosses the Lake Washington Ship Canal at mile 4.3 and while in the closed position provides 30 feet of vertical clearance throughout the navigation channel and 45 feet of vertical clearance through the center of the bridge; vertical clearance referenced to the Mean Water Level of Lake Washington. The Montlake Bridge crosses the Lake Washington Ship Canal at mile 5.2 and while in the closed position provides 30 feet of vertical clearance throughout the navigation channel and 46 feet of vertical clearance throughout the center 60-feet of the bridge; vertical clearance referenced to the Mean Water Level of Lake Washington. Vessels which do not require a bridge opening may continue to transit beneath the bridges during this closure period. Under normal conditions the Montlake Bridge operates in accordance with 33 CFR 117.1051(e) and the University Bridge operates in accordance with 33 CFR 117.1051(d) which require the bridges to open on signal, except that the bridges need not open for vessels less than 1,000 gross tons between 7 a.m. and 9 a.m. and 3:30 p.m. and 6:30 p.m. for the Montlake Bridge and 7 a.m. to 9 a.m. and 4 p.m. to 6 p.m. for the University Bridge Monday through Friday. This deviation period is from 7:30 a.m. on May 19, 2013 to 9:30 a.m. on May 19, 2013. The deviation allows the bascule spans of the Montlake Bridge and University Bridge to remain in the closed position and need not open for maritime traffic from 7:30 a.m. on May 19, 2013 to 9:30 a.m. on May 19, 2013. The bridge shall operate in accordance to 33 CFR 117.1051 at all other times. Waterway usage on the Lake Washington Ship Canal ranges from commercial tug and barge to small pleasure craft. Mariners will be notified and kept informed of the bridge's operational status via the Coast Guard Notice to Mariners publication and Broadcast Notice to Mariners as appropriate. The draw span will be required to open, if needed, for vessels engaged in emergency response operations during this closure period.

In accordance with 33 CFR 117.35(e), the drawbridges must return to its regular operating schedule immediately at the end of the designated time period. This deviation from the operating regulations is authorized under 33 CFR 117.35.

Dated: April 22, 2013.
Randall D. Overton,
Bridge Administrator, Thirteenth Coast Guard District.

[FR Doc. 2013-10455 Filed 5-3-13; 8:45 am]

BILLING CODE 9110-04-P